DEPARTMENT OF COMMERCE

National Oceanic and Atmospheric Administration

RIN: 0648-XE96

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council), its Mid-Atlantic Bycatch Committee, its Research Set-Aside Committee, its Ecosystems Committee, its Protected Resources Committee, its Executive Committee, and its Surfclam/Ocean Quahog Committee, will hold public meetings.

DATES: The meetings will be held Tuesday, January 29, 2008 through Thursday, January 31, 2008. See SUPPLEMENTARY INFORMATION for specific dates and times.

ADDRESSES: The meetings will be held at the Hampton Roads Convention Center, 1610 Coliseum Drive, Hampton, VA 23666; telephone: (888) 484-4722.

Council address: Mid-Atlantic Fishery Management Council, 300 S. New Street, Dover, DE 19904; telephone: (302) 674-2331.

FOR FURTHER INFORMATION CONTACT: Daniel T. Furlong, Executive Director, Mid-Atlantic Fishery Management Council; telephone: (302) 674-2331, ext. 19.

SUPPLEMENTARY INFORMATION:

Tuesday, January 29, 2008

11 a.m. until 1 p.m. - The Bycatch Committee will meet.

1 p.m. until 3 p.m. - The Research Set-Aside (RSA) Committee will meet.

3 p.m. until 5 p.m. - The Ecosystems Committee will meet.

Wednesday, January 30, 2008

8 a.m. until 9 a.m. - The Protected Resources Committee will meet.

9 a.m. until 10:30 a.m. - The Executive Committee will meet.

10:30 a.m. until noon - The Surfclam/Ocean Quahog Committee will meet.

1 p.m. - The Council will convene to receive a Marine Debris presentation and a (Northeast Monitoring Program) NEAMAP Trawl Survey presentation.

7 p.m. until 8:30 p.m. - A Public Hearing for Amendment 1 to Tilefish Fishery Management Plan (FMP) will be held.

Thursday, January 31, 2008

The Council will convene at 9 a.m. and conclude approximately at 1 p.m.

Agenda items by day for the Council's committees and the Council itself are:

Tuesday, January 29, 2008

The Bycatch Committee will review the use of circle hooks in various fisheries, review hook manufacturing survey results, review use of buoy gear to reduce bycatch, and address the bycatch consequence of highgrading. The RSA Committee will discuss alternative approaches to reviewing project final results and incorporating them into the management process; discuss restructuring the RSA program to a “Cooperative Agreement” instead of traditional “Grant”; and, discuss development of a Mid-Atlantic Consortium similar to the Northeast Consortium. The Ecosystems Committee will receive an EPA report on National Coastal Condition, and receive and discuss the Magnuson-Stevens Act (MSA) Ecosystem Workshop report.

Wednesday, January 30, 2008

The Protected Resources Committee will receive a report on Harbor Porpoise Take Reduction Team activities, and receive a status update on the Atlantic Large Whale Take Reduction Program. The Executive Committee will review the outcome from the most recent Council Coordination Committee meeting and review the proposed changes to the Council's Statement of Organization, Practices and Procedures (SOPP) regarding the Scientific and Statistical Committee (SSC). The Surfclam/Ocean Quahog Committee will consider issues/actions to be addressed in Amendment 14 to the Surfclam and Ocean Quahog FMP. The Council will convene to receive a presentation regarding marine debris and the results of the most recent NEAMAP Trawl Survey. A Public Hearing regarding Amendment 1 to the Tilefish Fishery Management Plan will be held in the evening.

Thursday, January 31, 2008

The Council will convene at 9 a.m. and remain in session until approximately 1 p.m. to receive various reports.

Although non-emergency issues not contained in this agenda may come before the Council for discussion, these issues may not be the subject of formal Council action during these meetings. Council action will be restricted to those issues specifically listed in this notice and any issues arising after publication of this notice that require emergency action under Section 305(c) of the Magnuson-Stevens Act, provided the public has been notified of the Council's intent to take final actions to address such emergencies.

Special Accommodations

These meetings are physically accessible to people with disabilities. Requests for sign language interpretation or other auxiliary aids should be directed to M. Jan Bryan, (302) 674-2331 ext. 18, at least 5 days prior to the meeting date.

Dated: January 8, 2008.
Tracey L. Thompson,
Acting Director, Office of Sustainable Fisheries, National Marine Fisheries Service.

[FR Doc. E8-373 Filed 1-11-08; 8:45 am]

BILLING CODE 3510-22-S